DEPARTMENT OF ENERGY

Federal Energy Regulatory Commission

[Project Nos. 13825-000; 13827-000]

FFP Missouri 16, LLC, Solia 9 Hydroelectric, LLC; Notice of Competing Preliminary Permit Applications Accepted for Filing and Soliciting Comments, Motions To Intervene, and Competing Applications

December 7, 2010.

On August 6, 2010, FFP Missouri 16, LLC (FFP) and Solia 9 Hydroelectric, LLC filed preliminary permit applications, pursuant to section 4(f) of the Federal Power Act, proposing to study the feasibility of a hydropower project at the U.S. Army Corps of Engineers' (Corps) Mississippi River Lock and Dam #15 structure, located on the Mississippi River near Rock Island, Illinois. The sole purpose of a preliminary permit, if issued, is to grant the permit holder priority to file a license application during the permit term. A preliminary permit does not authorize the permit holder to perform any land-disturbing activities or otherwise enter upon lands or waters owned by others without the owners' express permission.

FFP's Mississippi Lock and Dam #15 Project (Project No. 13825-000) would consist of: (1) Four modular generation units placed in nine of the existing gate bays of the Corps' lock and dam structure. These 36 units would contain compact bulb turbines with individual unit capacities of 835 KW each and have a combined capacity of 30 MW; (2) a separate 50-foot x 60-foot control building; (3) a new 30 MVa substation located on the north side of the river; (4) a new 5,500-foot-long transmission line extending to an interconnection point with the existing Mid American Energy substation on the southern edge of Rock Island; and (5) appurtenant facilities. The proposed operating voltage would be 115-kilovolt (kV). FFP is also exploring an alternative that would involve construction of a new 260-foot-long x 210-foot-wide x 70-foot-high conventional concrete powerhouse and intake in the northern two roller gate bays. The new proposed powerhouse would contain four horizontal bulb turbines rated at 7.5 MW each. Each design would have a total energy generation of 200 gigawatt-hours per year. The project would utilize Corps designated flows from the Mississippi Lock and Dam #15 structure and operate as directed by the Corps.

Applicant Contact: Mr. Ramya Swaminathan, Free Flow Power Corporation, 33 Commercial Street, Gloucester, MA 01930; Telephone: (978) 283-2822.

Solia 9 Hydroelectric's proposed Lock and Dam #15 Hydropower Project (Project No. 13827-000) would consist of: (1) One 245-foot-long x 160-foot-wide x 60-foot-high concrete powerhouse. The proposed powerhouse would contain 6 turbine generator units with individual unit capacities of 5.2 MW each and have a combined capacity of 31 MW; (2) a new 26,400-foot-long 34 to 230-kV transmission line extending from the switchyard near the proposed powerhouse to an existing nearby distribution line; and (3) appurtenant facilities. The proposed project design would have a total energy generation of 172 gigawatt-hours per year. The project would operate run-of-river and utilize flows released from the dam.

Applicant Contact: Mr. Douglas Spaulding, P.E., Nelson Energy, LLC, 8441 Wayzata Blvd., #101, Golden Valley, MN 55426; Telephone: (952) 544-8133.

FERC Contact: Tyrone A. Williams, tyrone.williams@ferc.gov or (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application can be viewed or printed on the “eLibrary” link of Commission's Web site at http://www.ferc.gov/docs-filing/elibrary.asp. Enter the docket number (P-13795) in the docket number field to access the document. For assistance, contact FERC Online Support.

Kimberly D. Bose,
Secretary.

[FR Doc. 2010-31258 Filed 12-13-10; 8:45 am]

BILLING CODE 6717-01-P